DEPARTMENT OF AGRICULTURE

Forest Service

Plumas National Forest, California, Keddie Ridge Hazardous Fuels Reduction Project

AGENCY: Forest Service, USDA.

ACTION: Notice of intent to prepare an environmental impact statement.

SUMMARY: The USDA Forest Service, Plumas National Forest, Mt. Hough Ranger District will prepare and environmental impact statement (EIS) on the Keddie Ridge Hazardous Fuels Reduction Project proposal to modify fire behavior, improve forest and watershed health, protect and enhance habitat for Region 5 Forest Service sensitive plant and wildlife species (clustered lady's slipper, Constance's rock cress, and bald eagle), and reduce the spread and introduction of noxious weeds through: fuels treatments, group selections, road improvements, and herbicide and mechanical applications in the Indian Valley area.

DATES: Scoping comments concerning the scope of the analysis must be received within 14 days from date of publication in the Federal Register. The draft environmental impact statement is expected September 2010 and the final environmental impact statement is expected February 2011.

ADDRESSES: Send written comments to Katherine Carpenter, Interdisciplinary Team Leader, Mt. Hough Ranger District, 39696 Highway 70, Quincy, CA 95971. Comments may be: (1) Mailed; (2) hand delivered between the hours of 8 a.m. to 4:30 p.m. weekdays Pacific Time; (3) faxed to (530) 283-1821; or (4) electronically mailed to: comments-pacificsouthwest-plumas-rnthough(dfs.fed.us. Please indicate the name “Keddie Ridge Hazardous Fuels Reduction Project” on the subject line of your email. Comments submitted electronically must be in Rich Text Format (.rtf), plain text format (.txt.) or Word (.doc). It is important that reviewers provide their comments at such times and in such a way that they are useful to the Agency's preparation of the ETS. Therefore, comments should be provided prior to the close of the comment period and should clearly articulate the reviewer's concerns and contentions. Comments received in response to this solicitation, including names and addresses of those who comment, will be part of the public record for this proposed action. Comments submitted anonymously will be accepted and considered, however.

FOR FURTHER INFORMATION CONTACT: Katherine Carpenter, Interdisciplinary Team Leader, Mt. Hough Ranger District, 39696 Highway 70, Quincy, CA 95971. Telephone: (530) 283-7619 or electronic address: kacarpenter@fs.fed.us.

Individuals who use telecommunication devices for the deaf (TDD) may call the Federal Information Relay Service (FIRS) at 1-800-877-8339 between 8 a.m. and 8 p.m., Eastern Time, Monday through Friday.

SUPPLEMENTARY INFORMATION: The proposed action is designed to meet the standards and guidelines for land management activities described in the Plumas National Forest Land and Resource Management Plan (PNF LRMP) (USDA 1988) as amended by Herger-Feinstein Quincy Library Group (HFQLG) Final Supplemental Environmental Impact Statement (FSEIS) and Record of Decision (ROD) (USDA 1 999a, 1 999b, 2003b, 2003c), and the Sierra Nevada Forest Plan Amendment (SNFPA) FSEIS and ROD (USDA 2004a, 2004b). This project is being planned under authorization of the Healthy Forest Restoration Act (H.R. 1904; Pub. L. 108-148; 36 CFR 218—Predecisional Administrative Review Process).

The proposed project is located in Plumas County, California, within the Mt. Hough Ranger District of the Plumas National Forest. The proposed project is located west of Canyon Dam, east of Eisenheimer Peak, south of Keddie Peak, and north of the Greenville Wye. The Keddie Ridge Hazardous Fuels Reduction Project boundary encompasses all or portions of T. 25 N., R. 9 E., sec. 1-4, 8-11; T. 25 N., R. 10 F., sec. 1-6, 8-16, 22-24; T. 25 N., R. 11 E., sec. 5-9, 17-19; T. 26 N., R. 8 E., sec. 1, 2, 12; T.26 N., R. 9 F., sec. 1-17, 2029, 32-36, T. 26 N., R. 10 E., sec. 1-36; T. 26 N., R. 11 E., sec. 2-10, 15-21, 29-32; T. 27 N., R. 8 E., sec. 1, 12-15, 22-27, 34-36; T. 27N., R 9 E., sec. 9-11, 13-36; T. 27N., R. 10 E., sec. 2-5, 8-11, 14-36; T. 27 N., R. 11 F., sec. 27, 28, 31-34; T. 28 N., R. 10 F., 33-35, MDBM.

Purpose and Need for Action

This project is proposed to modify fire behavior, improve forest and watershed health, protect and enhance habitat for Region 5 Forest Service sensitive plant and wildlife species, and reduce noxious weed infestations in the project area. Fire behavior needs to be modified in specific stands in order to reduce high fuel loading and resulting increased risks to people, structures, and resources. Forest health needs to be improved because current high stand densities in the Keddie area are leading to mortality from drought, insects and fire. Region 5 Forest Service sensitive plant and wildlife species (clustered lady's-slipper orchid, Constance's rock cress, and bald eagle) habitat needs enhancement and protection from the risk of high severity, stand-replacing wildfire due to dense stands and high fuel loads. The location and number of poorly maintained roads in the project area are currently contributing to poor watershed health, and should be reduced. Noxious weeds, including Canada thistle, Scotch broom, medusa head, yellow star thistle, and hoary cress need to be controlled in order to lessen risk of weed introduction, establishment, and spread to adjacent areas.

Proposed Action

The USDA Forest Service, Plumas National Forest, Mt. Hough Ranger District will prepare and environmental impact statement (EIS) for the Keddie Ridge Hazardous Fuels Reduction Project. The proposed action would construct 5,456 acres of fuelbreaks known as Defensible Fuel Profile Zones (DFPZs). DFPZs would be constructed using a combination of mechanical harvest, mastication, hand thin, pile, and burn, and prescribed underburn. The proposed action would also include 741 acres of mechanized thinning (area thinning) outside of DFPZs. Group selection is proposed in mechanical thinning units within DFPZs and area thinning units (330 acres) using mechanical equipment. Group selection involves harvest of trees less than 30 inches in diameter in small (0.5 to 2 acres) patches. Hand thinning, piling, chipping and/or burning of conifers (3-10 inches dbh) is proposed within approximately 45 acres of the primary nesting zone of the Round Valley bald eagle territory. Hand thinning to a spacing of 20 feet, piling, and burning of saplings and small diameter trees (8 inches or less dbh), is proposed within the fourteen clustered lady's slipper sites and approximately 72 acres of Constance's rock cress.

Manipulation of surface fuels within clustered lady's slipper occurrences would also occur. If consistent with the Plumas National Forest Travel Management decision, improperly constructed or unmaintained roads that are causing resource damage would be decommissioned or closed by various methods, such as ripping and seeding, recontouring, or installing barriers. For more information about the travel management process, visit the Plumas National Forest Web site at: http://bit.ly/bTJZER. Treatments proposed to contain and control the known weed infestations within the project area include the following or a combination thereof: herbicide applications of chlorsulfuron, aminopyralid, or glyphosate; hand-pulling; late spring underburning and direct flaming with a back-pack propane torch; and revegetation in selected areas using native seed.

A decision is expected in April 2011 and implementation may begin as early as summer of 2011.

Possible Alternatives

In addition to the proposed action, a no action alternative will be analyzed. Additional alternatives may be developed and analyzed during the environmental analysis process.

Responsible Official

The Plumas National Forest Supervisor is the Responsible Official.

Nature of Decision To Be Made

The decision to be made is whether to: (1) Implement the proposed action; (2) meet the purpose and need for action through some other combination of activities; or, (3) take no action at this time.

Permits or Licenses Required

An Air Pollution Permit, Smoke Management Plan, and California Water Quality Board timber harvest waiver for waste discharge are required by local agencies.

Scoping Process

This notice of intent initiates the scoping process, which guides the development of the environmental impact statement, The Keddie Ridge Hazardous Fuels Reduction Project will initiate and request comments at: An open house in Greenville, CA in June 2010, an official 45 day comment period once a Notice of Availability is published in the Federal Register, a 30 day objection period, and an objection resolution period.

It is important that reviewers provide their comments at such times and in such manner that they are useful to the agency's preparation of the environmental impact statement. Therefore, comments should be provided prior to the close of the comment period and should clearly articulate the reviewer's concerns and contentions.

Dated: March 25, 2010.
Maria T. Garcia,
Deputy Forest Supervisor.

[FR Doc. 2010-7162 Filed 3-31-10; 8:45 am]

BILLING CODE 3410-11-M